DEPARTMENT OF TRANSPORTATION

Federal Railroad Administration

[Waiver Petition Docket Number FRA-2003-16306]

Notice of Public Hearing; Union Pacific Railroad Company

On December 11, 2003, FRA published a notice in the Federal Register announcing the Union Pacific Railroad Company's (UP) intent to be granted a waiver of compliance from certain provisions of the Railroad Locomotive Safety Standards, 49 CFR Part 229. See 68 FR 69123. Specifically, UP requests relief from the requirements of 49 CFR 229.27(a)(2) Annual Tests and 49 CFR 229.29(a) Biennial Tests, applicable to all existing and future installations of electronic air brake equipment furnished by Wabtec Corporation of Wilmerding, Pennsylvania on UP locomotives.

UP requested that the provisions of § 229.27(a)(2) and § 229.29(a) be temporarily waived to allow them to conduct a long term test program designed to show that Wabtec's electronic air brake technology has sufficiently improved the overall system reliability and safety to a point where it is now possible to move toward a “component repair as required, performance based COT&S criterion,” similar in scope to that outlined a previous waiver granted September 1, 2000, to CSX Transportation in Docket FRA-1999-6252.

UP proposes to initiate a test program to extend the Wabtec electronic air brake COT&S based on the following assertions: (1) A reduction of pneumatic devices by substitution of computer-based logic; (2) real time fault detection and control of critical faults to a known fail-safe condition made possible by constant “vigilance” of the controlling computer; (3) development of emergency brake cylinder pressure accomplished conventionally by a back-up pneumatic control valve, as well as electronically under all conditions; (4) demonstrated performance to date of Wabtec “EPIC” brake system under the current waiver FRA 2002-13397 (formally H-92-3); and (5) supporting test and inspection results documented over the past decade for the “EPIC” equipment as required by the current waiver. As part of this waiver request, UP recommends that a detailed test plan, necessary for properly tracking and documenting the results, be jointly developed between UP, Wabtec Corporation, and FRA. At the completion of the test program, UP further requests that FRA conduct a formal review of the results relative to the objective of moving toward a “performance-based COT&S” criterion.

As a result of the comments received by FRA concerning this waiver petition, FRA has determined that a public hearing is necessary before a final decision is made on this petition. Accordingly, a public hearing is hereby set to begin at 10 a.m. on July 13, 2004, at the Washington Plaza Hotel, 10 Thomas Circle, NW. (at Massachusetts Avenue and 14th Street), Washington, DC 20005. Interested parties are invited to present oral statements at this hearing.

The hearing will be informal and will be conducted in accordance with FRA's Rules of Practice (49 CFR 211.25) by a representative designated by FRA. FRA's representative will make an opening statement outlining the scope of the hearing, as well as any additional procedures for the conduct of the hearing. The hearing will be a non-adversarial proceeding in which all interested parties will be given the opportunity to express their views regarding this waiver petition, without cross-examination. After all initial statements have been completed, those persons wishing to make a brief rebuttal statements will be given an opportunity to do so in the same order in which initial statements were made.

Issued in Washington, DC, on June 4, 2004.
Grady C. Cothen, Jr.,
Acting Associate Administrator for Safety.

[FR Doc. 04-13258 Filed 6-9-04; 8:45 am]

BILLING CODE 4910-06-P